CONSUMER FINANCIAL PROTECTION BUREAU

12 CFR Part 1082

[Docket No. CFPB-2025-0016]

RIN 3170-AB43

Rescission of State Official Notification Rules; Withdrawal

AGENCY: Consumer Financial Protection Bureau.

ACTION: Direct final rule; withdrawal.

SUMMARY: The Consumer Financial Protection Bureau (Bureau) is withdrawing a previously published direct final rule that would have rescinded procedures by which a State official must notify the Bureau when the official takes an action to enforce the Consumer Financial Protection Act.

DATES: The direct final rule published on May 21, 2025, at 90 FR 21691, is withdrawn, effective July 21, 2025.

FOR FURTHER INFORMATION CONTACT: Dave Gettler, Paralegal Specialist, Office of Regulations, at 202-435-7700 or https://reginquiries.consumerfinance.gov/. If you require this document in an alternative electronic format, please contact CFPB_Accessibility@cfpb.gov.

SUPPLEMENTARY INFORMATION: On May 21, 2025, the Bureau published a direct final rule that would have rescinded procedures by which a State official must notify the Bureau when the official takes an action to enforce the Consumer Financial Protection Act. The direct final rule stated that it would be withdrawn if the Bureau received significant adverse comments by June 20, 2025. Accordingly, because significant adverse comments were received, the Bureau is withdrawing the direct final rule. The Bureau will address comments received in a subsequent rulemaking. This withdrawal notice is not a “significant regulatory action” subject to review under Executive Order 12866.

Russell Vought,
Acting Director, Consumer Financial Protection Bureau.

[FR Doc. 2025-13665 Filed 7-17-25; 4:15 pm]

BILLING CODE 4810-AM-P